DEPARTMENT OF THE INTERIOR

Bureau of Land Management

[BLM_NM_FRN_MO#4500172602]

Notice of Intent To Amend the Taos Resource Management Plan for the Río Grande del Norte National Monument Management Plan and Prepare an Associated Environmental Assessment

AGENCY: Bureau of Land Management, Interior.

ACTION: Notice of intent.

SUMMARY: In compliance with the National Environmental Policy Act of 1969, as amended (NEPA) and the Federal Land Policy and Management Act of 1976, as amended (FLPMA), the Bureau of Land Management (BLM) New Mexico State Director intends to prepare a resource management plan (RMP) amendment with an associated environmental assessment (EA) for the Río Grande del Norte National Monument and by this notice is announcing the beginning of the scoping period to solicit public comments and identify issues. We are also providing the planning criteria for public review.

DATES: The BLM requests that the public submit comments concerning the scope of the analysis, potential alternatives, and identification of relevant information and studies by September 11, 2023. To afford the BLM the opportunity to consider issues raised by commenters in the draft RMP amendment/EA, please ensure your comments are received prior to the close of the 30-day scoping period or 15 days after the last public meeting, whichever is later.

ADDRESSES: You may submit comments on issues and planning criteria related to the management plan for Río Grande del Norte National Monument by any of the following methods:

• Website: https://eplanning.blm.gov/eplanning-ui/project/2024165/510

• Mail: Brad Higdon, Project Manager, BLM Taos Field Office, 1024 Paseo del Pueblo Sur, Taos, NM 87571.

Documents pertinent to this proposal may be examined online at https://eplanning.blm.gov/eplanning-ui/project/2024165/510 and at the BLM Taos Field Office, New Mexico.

FOR FURTHER INFORMATION CONTACT: Brad Higdon, Planning and Environmental Specialist, telephone: (575) 751-4725; address: 1024 Paseo del Pueblo Sur, Taos, NM 87571; or email: bhigdon@blm.gov. Contact Mr. Higdon to have your name added to our mailing list. Individuals in the United States who are deaf, deafblind, hard of hearing, or have a speech disability may dial 711 (TTY, TDD, or TeleBraille) to access telecommunications relay services for contacting Mr. Higdon. Individuals outside the United States should use the relay services offered within their country to make international calls to the point-of-contact in the United States.

SUPPLEMENTARY INFORMATION: This document provides notice that the BLM New Mexico State Director intends to prepare a RMP amendment with an associated EA for the Río Grande del Norte National Monument, announces the beginning of the scoping process, and seeks public input on issues and planning criteria. The RMP amendment would change the existing Taos RMP.

The planning area is located in Taos and Rio Arriba counties, New Mexico, and encompasses approximately 247,852 acres of public land.

Purpose and Need

Need: The need for the RMP amendment was established by the Presidential Proclamation that designated the Monument. The Proclamation states, “For purposes of protecting and restoring the objects. . . the Secretary, through the BLM, would prepare and maintain a management plan. . . .” An RMP amendment is necessary—as mandated by the Proclamation—for providing the management guidance critical for ensuring the Monument objects are preserved.

FLPMA, which established public land policy, also requires the BLM to “develop, maintain, and, when appropriate, revise land use plans” for the management of public lands. Furthermore, it is BLM policy that each Monument has an independent decision document that specifies the management guidance for that Monument.

In addition to these mandates, an amendment to the Taos RMP is necessary to address the new information that has been accrued and the changed circumstances the Monument has experienced since its designation in 2013. New surveys of seeps and springs, cultural resources, sagebrush distribution, sensitive species, wildlife corridors, among other resources, have been conducted in recent years that add to the BLM's catalogue of the best-available information. This new information will enable the BLM to reevaluate and adjust its current management of the Monument under an amended Taos RMP. Changed circumstances include increased demand for recreational opportunities and increased pressure on recreation facilities and infrastructure within the Monument. The public is seeking a wider array of trail use opportunities, particularly around the communities of Taos and Questa, and increased pressure on existing trails and recreational facilities has been especially evident since the onset of the COVID-19 pandemic. Trailhead parking is regularly at or exceeds capacity throughout much of the Monument. New types of recreation, such as e-bikes, also need to be addressed.

Opportunities for new rights-of-way for electrical transmission in support of renewable energy development is an evolving circumstance that may require new authorizations consistent with the parameters specified in the Proclamation. Changed circumstances regarding climatic conditions also requires careful management considerations for a broad spectrum of resources in an updated plan, including those contributing to the objects for which the Monument was established to protect.

A RMP amendment is also necessary for providing protective management of Cerro del Yuta Wilderness and Rio San Antonio Wilderness, designated by Congress in 2019. Wilderness areas are required to be managed according to the provisions of the Wilderness Act of 1964, and this management plan would provide the framework for the implementation-level wilderness plans that would be completed once a management plan is approved.

Purpose: As specified in the Presidential Proclamation, the overarching purpose of this action—the RMP amendment—is to provide for the protection and restoration of the Monument objects presented below, as well as allowing for the enjoyment and use of the Monument lands and resources through recreation, traditional uses, and other means. The management plan would establish goals and objectives and identify allocations and allowable uses to achieve a balance of protection and use for the Monument. More specifically, the BLM seeks to achieve the objectives outlined below under the guidance of an approved management plan.

To Protect Monument Objects Listed Under the Proclamation

• To provide protection and preservation for cultural resources and the integrity of cultural landscapes from conflicts that have emerged from resource uses. The BLM also has an opportunity to promote stewardship, interpretation, and an understanding of the area's ethnography, as well as to provide opportunities for Tribal co-stewardship.

• To provide for the protection and restoration of the Monument's ecological diversity. The BLM would foster resistance and resilience of diverse, native vegetative communities in the face of changing climate and water conditions, and public use. The BLM would identify opportunities for sustaining the health of a broad range of species, their habitats, and conditions that contribute to the ecological diversity of the Monument, including, for example, various special status biological species, pollinators, and soils in the face of the same challenges. The BLM will also update strategies and practices for wildlife corridors and restoring vegetative communities through treatments and management of fuels.

• To provide for the protection and restoration of diverse terrestrial and aquatic wildlife populations and their habitats, including threatened and endangered species and other special status species and their habitats. The BLM would minimize fragmentation of seasonal habitats, habitat connectivity, and the displacement of wildlife from those habitats, while allowing for recreational and traditional uses of the Monument.

• To protect the geologic features, functions, and visual integrity of the Monument, while balancing the increased recreational use, demand for rights-of-way, and other uses that could impact Monument lands.

Resolve Conflicts Between Recreational and Other Uses and Protect Monument Objects

• To provide for a variety of recreational opportunities in diverse settings in a manner that meets the demand of the public and resolves conflicts between recreational use and the protection of Monument objects.

• To provide for traditional uses of the public lands in a manner consistent with the protection, preservation, and restoration of Monument objects. Traditional uses are very important to sustaining cultural customs and traditions of local populations, such as those associated with food, shelter, and other basic human needs. Traditional uses include livestock grazing, fuelwood collection, piñon nut collection, herb collection, hunting, fishing, and other similar uses.

• To allow for motorized and non-motorized access to the Monument, consistent with the Proclamation (which states “[e]xcept for emergency or authorized administrative purposes, motorized vehicle use in the monument shall be permitted only on designated roads and non-motorized mechanized vehicle use shall be permitted only on designated roads and trails.”), for traditional uses, livestock grazing, fuelwood collection, and recreational opportunities, while protecting Monument objects. A long-term, sustainable travel and transportation network must be defined by allocations necessary to provide for access while preventing any degradation to Monument objects, wild and scenic river corridors, and the two new wilderness areas. FLPMA requires that, among other uses, “the public lands be managed in a manner that will . . . provide for outdoor recreation” (43 CFR 1701).

• To update the use of existing designated corridors, allowing for new, expanded, and upgraded utility rights-of-way that serve local communities in a manner consistent with the protection, preservation, and restoration of Monument objects. The Presidential Proclamation that established the Monument allows for limited opportunities to upgrade or modify utility rights-of-way. The linear layout of the Monument makes it difficult to avoid crossing the Monument with transmission lines and other utilities.

To Protect Newly Designated Wilderness Areas Within the Monument

To preserve the wilderness character of the newly designated Cerro del Yuta Wilderness and Rio San Antonio Wilderness areas.

Preliminary Alternatives

No Action Alternative

Under the No Action Alternative, management of the Monument would continue to follow the decisions of the existing Taos Field Office RMP. Two areas of critical environmental concern, the Taos Plateau Area of Critical Environmental Concern (222,500 acres) and the Lower Gorge Area of Critical Environmental Concern (21,190 acres), overlap the Monument nearly in its entirety. The Taos Plateau Area of Critical Environmental Concern contains relevant and important values associated with wildlife habitat, special status species, water quality and quantity, wetlands, and scenic quality. The Lower Gorge Area of Critical Environmental Concern was established to provide direct management of relevant and important riparian vegetation, special status species and wildlife habitat, and cultural values. Management of the Lower Gorge Area of Critical Environmental Concern also includes emphasis on recreation and contains the Orilla Verde Recreation Area. The remainder of the Monument not managed as an area of critical environmental concern is included with the Rio Grande Wild and Scenic River, which includes a segment of the Red River, and is managed pursuant to the National Wild and Scenic Rivers Act, as amended. Under the No Action Alternative, existing management for BLM-administered lands within the Monument would be largely consistent with the purposes of the Monument's designation.

To meet the mandates of Presidential Proclamation 8946, the BLM proposes to manage the Río Grande del Norte National Monument consistent with existing management direction contained in the 2012 Taos RMP except for the following Monument objects, resources, or uses for which goals and objectives, administrative designations, allocations for allowable uses, and/or management direction may be updated:

• Cultural and historic resources

• Ecological resources

• Geologic resources

• Fish and wildlife and their habitat

• Recreation

• Motorized and mechanized vehicle use

• Lands and realty

• Livestock grazing

• Wilderness

Other existing goals, objectives, and other land use planning-level decisions from the 2012 Taos RMP will be modified under the Proposed Action if necessary to ensure that the protection, restoration, and/or increased resiliency of Monument objects. The BLM welcomes comments on the preliminary proposed action as well as suggestions for additional alternatives.

Planning Criteria

The planning criteria guide the planning effort and lay the groundwork for effects analysis by identifying the preliminary issues and their analytical frameworks. Preliminary issues for the planning area have been identified by BLM personnel and from early engagement conducted for this planning effort with Federal, State, and local agencies; Tribes; and other stakeholders. The BLM has identified multiple preliminary issues regarding various resources and uses for this planning effort's analysis. The planning criteria are available for public review and comment at the ePlanning website (see ADDRESSES).

Public Scoping Process

This notice of intent initiates the scoping period and public review of the planning criteria, which guide the development and analysis of the RMP Amendment and Environmental Analysis.

The BLM will be holding two public scoping meetings in the following locations: Taos and Santa Fe, New Mexico. One virtual meeting will also be held. The specific date and location of these scoping meetings will be announced at least 15 days in advance through media outlets, social media, and the project ePlanning website (see ADDRESSES).

Comments submitted during public scoping that provide pertinent information, express relevant concerns and issues, and identify reasonable management options, especially when submitted with sufficient detail, are most substantive and useful for evaluating alternatives and conducting impact analysis.

Interdisciplinary Team

The BLM will use an interdisciplinary approach to develop the plan in order to consider the variety of resource issues and concerns identified. Specialists with expertise in the following disciplines will be involved in this planning effort: aquatic resources, archaeology, botany, ecology, environmental justice, forestry, geology, lands and realty, paleontology, outdoor recreation, rangeland management, soils, socioeconomics, visual resources, wild and scenic rivers, wilderness, wildlife and fisheries.

Additional Information

The BLM will identify, analyze, and consider mitigation to address the reasonably foreseeable impacts to resources from the proposed plan amendment and any analyzed reasonable alternatives and, in accordance with 40 CFR 1502.14(e), include appropriate mitigation measures not already included in the proposed plan amendment or alternatives. Mitigation may include avoidance, minimization, rectification, reduction or elimination over time, and compensation; and may be considered at multiple scales, including the landscape scale.

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan will assist the BLM in identifying and evaluating impacts to such resources.

The BLM will consult with Tribal Nations on a government-to-government basis in accordance with Executive Order 13175, BLM MS 1780, and other Departmental policies. Tribal concerns, including impacts on Tribal trust assets and potential impacts to cultural resources, will be given due consideration. Federal, State, and local agencies, along with Tribal Nations and other stakeholders that may be interested in or affected by the proposed approval that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9 and 43 CFR 1610.2.)

Melanie G. Barnes,
State Director.

[FR Doc. 2023-17224 Filed 8-10-23; 8:45 am]

BILLING CODE 4331-23-P